INTERNATIONAL TRADE COMMISSION

[Investigation Nos. 701-TA-473 and 731-TA-1173 (Review)]

Potassium Phosphate Salts From China

Determinations

On the basis of the record ¹ developed in the subject five-year reviews, the United States International Trade Commission (“Commission”) determines, pursuant to the Tariff Act of 1930, that revocation of the countervailing duty and antidumping duty orders on potassium phosphate salts from China would be likely to lead to continuation or recurrence of material injury to industries in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on June 1, 2015 (80 FR 31068) and determined on September 4, 2015 that it would conduct expedited reviews (80 FR 57204, September 22, 2015).

The Commission made these determinations pursuant to section 751(c) of the Tariff Act of 1930 (19 U.S.C. 1675(c)). It completed and filed its determinations in these reviews on December 4, 2015. The views of the Commission are contained in USITC Publication 4584 (December 2015), entitled Potassium Phosphate Salts from China: Investigation Nos. 701-TA-473 and 731-TA-1173 (Review).

Issued: December 4, 2015.
By order of the Commission.
Lisa R. Barton,
Secretary to the Commission.

[FR Doc. 2015-31102 Filed 12-9-15; 8:45 am]

BILLING CODE 7020-02-P